DEPARTMENT OF DEFENSE

Office of the Secretary

[Docket ID DOD-2016-OS-0117]

Proposed Collection; Comment Request

AGENCY: National Defense University, DoD.

ACTION: Notice.

SUMMARY: In compliance with the Paperwork Reduction Act of 1995, and as part of a Federal Government-wide effort to streamline the process to seek feedback from the public on service delivery, the Center for the Study of Weapons of Mass Destruction at the Institute for National Strategic Studies announces a proposed generic information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 14, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Center for the Study of Weapons of Mass Destruction, Institute for National Strategic Studies, National Defense University, ATTN: Natasha E. Bajema, Ph.D., Washington, DC 20319-5066, or call at 202-685-4234.

SUPPLEMENTARY INFORMATION:

Title; Associated Form; and OMB Number: Regular Generic Clearance for the Collection of NDU Emergence and Convergence; OMB Control Number 0704-XXXX.

Needs and Uses: The information collection requirement is necessary to assess the impact of emerging technologies (additive manufacturing, advanced robotics, nanotechnology, nuclear energy and synthetic biology) on the threat of weapons of mass destruction (WMD) and governance, tools and measures designed to counter WMD as part of a multi-year study entitled Emergence and Convergence. These surveys will generate important new data on the risk of misuse and governability of these technologies and support in-depth analysis of national security risks.

Current Actions: Processing New as Generic.

Type of Review: New.

Affected Public: Business or other for profit; Not-for-profit institutions.

Estimated Number of Annual Respondents: 65.

Average Expected Annual Number of Activities: 1.

Below we provide projected average estimates for the next three years:

Average Number of Respondents per Activity: 65.

Responses per Respondent: 2.

Annual Responses: 130.

Average Burden per Response: 60 minutes.

Annual Burden Hours: 130.

Frequency: On occasion.

Respondents are subject matter experts including scientists, engineers and technologists at academic institutions, non-for-profit organizations and industry. Structured techniques for the elicitation of expert judgment are key tools for national security risk assessments. The Delphi method involves an iterative series of questionnaires designed to build an expert consensus on a topic for which there is little or no existing data. This survey offers significant public benefit by producing a report that will support a dialogue between policymakers and private sector stakeholders. The report generated by this survey will help to educate the private sector on the national security risks associated with emerging technologies.

Dated: December 13, 2016.
Aaron Siegel,
Alternate OSD Federal Register, Liaison Officer, Department of Defense.

[FR Doc. 2016-30271 Filed 12-15-16; 8:45 am]

BILLING CODE 5001-06-P